DEPARTMENT OF AGRICULTURE

Forest Service

Malheur National Forest; Oregon; Summit Logan Grazing Authorization Project

AGENCY: Forest Service, USDA.

ACTION: Notice of intent to prepare an environmental impact statement.

SUMMARY: The USDA Forest Service will prepare an environmental impact statement (EIS) to disclose environmental effects to authorize livestock grazing on all or portions of the Lake Creek, Logan Valley, McCoy Creek and Summit Prairie allotments. These allotments are within the Upper Malheur River and Upper North Fork Malheur River watersheds. The Summit Logan Grazing Authorization Project area is located south and west of Prairie City, Oregon and encompasses approximately 40,272 acres of National Forest System Lands administered by the Prairie City Ranger District, Malheur National Forest.

DATES: Comments concerning the scope of the analysis must be received by March 9, 2012. The draft environmental impact statement is expected June 2012 and the final environmental impact statement is expected September 2012.

ADDRESSES: Send written comments to the Randall Gould, District Ranger, Prairie City Ranger District, 327 SW Front Street, P.O. Box 337, Prairie City, OR 97869. Comments may also be sent via email to comments-pacificnorthwest-malheur-prairiecity@fs.fed.us, or via facsimile to (541) 820-4844.

FOR FURTHER INFORMATION CONTACT: Ryan Falk, Environmental Coordinator, Malheur National Forest, 327 Front Street, P.O. Box 337, Prairie City, Oregon 97869. Telephone: (541) 820-3890, email: rfalk@fs.fed.us.

Individuals who use telecommunication devices for the deaf (TDD) may call the Federal Information Relay Service (FIRS) at 1 (800) 877-8339 between 8 a.m. and 8 p.m., Eastern Time, Monday through Friday.

SUPPLEMENTARY INFORMATION:

Purpose and Need for Action

The purpose of this project is to authorize livestock grazing on the Lake Creek, Logan Valley, McCoy Creek and Summit Prairie allotments, meeting the requirements of the Rescission Act, and to improve resource conditions for aquatic habitat.

Proposed Action

The proposed action allows grazing in the Lake Creek, Logan Valley, McCoy Creek and Summit Prairie Allotments while allowing recovery of vegetation and hardwoods in riparian areas.

Allotment boundaries and pastures would be adjusted to facilitate more efficient allotment management requiring new fence construction, existing fence removal and water source developments. Portions of the currently vacant Lake Creek allotment would be added to the Logan Valley, Summit Prairie and Dollar Basin allotments. Areas within the Lake Creek allotment that contain occupied bull trout habitat would remain vacant. Existing AUMs in the Logan Valley, McCoy Creek, and Summit Prairie allotments would not change.

The proposed action includes adaptive management strategies to meet or move toward Forest Plan and site-specific desired conditions.

Possible Alternatives

Two additional alternatives have been identified to date: (1) Term grazing permits would be cancelled (No Grazing); and (2) implementation of management actions from the current management plan as adapted over recent years.

Responsible Official

Teresa Raaf, Malheur National Forest Supervisor.

Nature of Decision To Be Made

The Responsible Official will decide if and to what management parameters livestock grazing will continue in the project area.

Preliminary Issues

Preliminary issues identified include the potential effects of livestock on riparian vegetation, aquatic habitat, and water quality.

Scoping Process

This notice of intent initiates the scoping process, which guides the development of the environmental impact statement. Previous scoping for this project occurred in October, 2008.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: January 31, 2012.
Randall J. Gould,
District Ranger.

[FR Doc. 2012-2825 Filed 2-7-12; 8:45 am]

BILLING CODE 3410-11-P